Title 3—

The President

Proclamation 9968 of November 27, 2019

Thanksgiving Day, 2019

By the President of the United States of America

A Proclamation

On Thanksgiving Day, we remember with reverence and gratitude the bountiful blessings afforded to us by our Creator, and we recommit to sharing in a spirit of thanksgiving and generosity with our friends, neighbors, and families.

Nearly four centuries ago, determined individuals with a hopeful vision of a more prosperous life and an abundance of opportunities made a pilgrimage to a distant land. These Pilgrims embarked on their journey across the Atlantic at great personal risk, facing unforeseen trials and tribulations, and unforetold hardships during their passage. After their arrival in the New World, a harsh and deadly winter took the lives of nearly half their population. Those who survived remained unwavering in their faith and foresight of a future rich with liberty and freedom, enduring every impediment as they established one of our Nation's first settlements. Through God's divine providence, a meaningful relationship was forged with the Wampanoag Tribe, and through their unwavering resolve and resilience, the Pilgrims enjoyed a bountiful harvest the following year. The celebration of this harvest lasted 3 days and saw Pilgrims and Wampanoag seated together at the table of friendship and unity. That first Thanksgiving provided an enduring symbol of gratitude that is uniquely sewn into the fabric of our American spirit.

More than 150 years later, it was in this same spirit of unity that President George Washington declared a National Day of Thanksgiving following the Revolutionary War and the ratification of our Constitution. Less than a century later, that hard-won unity came under duress as the United States was engaged in a civil war that threatened the very existence of our Republic. Following the Battle of Gettysburg in 1863, in an effort to unite the country and acknowledge “the gracious gifts of the Most High God,” President Abraham Lincoln asked the American people to come together and “set apart and observe the last Thursday of November next as a Day of Thanksgiving and Praise to our beneficent Father who dwelleth in the heavens.” Today, this tradition continues with millions of Americans gathering each year to give their thanks for the same blessings of liberty for which so many brave patriots have laid down their lives to defend during the Revolutionary War and in the years since.

Since the first settlers to call our country home landed on American shores, we have always been defined by our resilience and propensity to show gratitude even in the face of great adversity, always remembering the blessings we have been given in spite of the hardships we endure. This Thanksgiving, we pause and acknowledge those who will have empty seats at their table. We ask God to watch over our service members, especially those whose selfless commitment to serving our country and defending our sacred liberty has called them to duty overseas during the holiday season. We also pray for our law enforcement officials and first responders as they carry out their duties to protect and serve our communities. As a Nation, we owe a debt of gratitude to both those who take an oath to safeguard us and our way of life as well as to their families, and we salute them for their immeasurable sacrifices.

As we gather today with those we hold dear, let us give thanks to Almighty God for the many blessings we enjoy. United together as one people, in gratitude for the freedoms and prosperity that thrive across our land, we acknowledge God as the source of all good gifts. We ask Him for protection and wisdom and for opportunities this Thanksgiving to share with others some measure of what we have so providentially received.

NOW, THEREFORE, I, DONALD J. TRUMP, President of the United States of America, by virtue of the authority vested in me by the Constitution and the laws of the United States, do hereby proclaim Thursday, November 28, 2019, as a National Day of Thanksgiving. I encourage all Americans to gather, in homes and places of worship, to offer a prayer of thanks to God for our many blessings.

IN WITNESS WHEREOF, I have hereunto set my hand this twenty-seventh day of November, in the year of our Lord two thousand nineteen, and of the Independence of the United States of America the two hundred and forty-fourth.

[FR Doc. 2019-26283

Filed 12-3-19; 8:45 am]

Billing code 3295-F0-P